DEPARTMENT OF TRANSPORTATION

Federal Aviation Administration

14 CFR Part 71

[Airspace Docket No. 99-ANM-11]

Establishment of Class D Airspace; Jackson, WY

AGENCY: Federal Aviation Administration (FAA), DOT.

ACTION: Final rule; establishment of effective date.

SUMMARY: This action establishes the effective date for the establishment of a Class D surface area at Jackson Hole Airport, Jackson, WY. The contractual agreements to run the Airport Traffic Control Tower (ATCT) under the FAA contract tower program have now been implemented. Operations at the ATCT will commence on May 15, 2000.

EFFECTIVE DATE: The effective date of FR Doc. 00-3382 is May 15, 2000.

FOR FURTHER INFORMATION CONTACT: Brian Durham, ANM-520.7, Federal Aviation Administration, Docket No. 99-ANM-11, 1601 Lind Avenue S.W., Renton, Washington, 98055-4056; telephone number: (425) 227-2527.

SUPPLEMENTARY INFORMATION:

History

Airspace Docket No. 99-ANM-11, published in the Federal Register on February 14, 2000 (65 FR 7287), established a Class D surface airspace area at Jackson Hole Airport, Jackson, WY. This action was originally scheduled to become effective on April 20, 2000. A delay was encountered concerning the contractual requirements for the operation of the ATCT. The length of the delay was uncertain so a delay of effective date action was effected. Contractual requirements for the ATCT have been resolved, the new effective date for operations at Jackson Hole, WY is May 15, 2000.

The FAA has determined that this regulation only involves an established body of technical regulations for which frequent and routine amendments are necessary to keep them operationally current. Therefore, this regulation: (1) Is not a significant regulatory action under Executive Order 12866; (2) is not a “significant rule” under DOT regulatory Policies and Procedures (44 FR 11034; February 26, 1979); and (3) does not warrant preparation of a Regulatory Evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by reference, Navigation (air).

Establishment of Effective Date

The effective date on Airspace Docket 99-ANM-11 is hereby established as May 15, 2000.

Authority: 49 U.S.C. 106(g), 40103, 40113, 40120; E.O. 10854, 24 FR 9565, 3 CFR, 1959-1963 Comp., p. 389.

Issued in Seattle, Washington, on May 4, 2000.
Charles E. Davis,
Acting Manager, Air Traffic Division, Northwest Mountain Region.

[FR Doc. 00-12823 Filed 5-19-00; 8:45 am]

BILLING CODE 4910-13-M